DEPARTMENT OF THE INTERIOR

Fish and Wildlife Service

[FWS-R6-ES-2020-N019; FXES11130600000-201-FF06E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act. We invite the public and local, State, Tribal, and Federal agencies to comment on these applications. Before issuing any of the requested permits, we will take into consideration any information that we receive during the public comment period.

DATES: We must receive your written comments by April 27, 2020.

ADDRESSES: Document availability and comment submission: Use one of the following methods to request documents or submit comments. Requests and comments should specify the applicant name(s) and application number(s) (e.g., TE123456):

• Email: permitsR6ES@fws.gov.

• U.S. Mail: Marjorie Nelson, Chief, Division of Ecological Services, U.S. Fish and Wildlife Service, 134 Union Blvd., Suite 670, Lakewood, CO 80228.

FOR FURTHER INFORMATION CONTACT: Kathy Konishi, Recovery Permits Coordinator, Ecological Services, 303-236-4224 (phone), or permitsR6ES@fws.gov (email). Individuals who are hearing or speech impaired may call the Federal Relay Service at 1-800-877-8339 for TTY assistance.

SUPPLEMENTARY INFORMATION:

Background

The Endangered Species Act of 1973, as amended (ESA; 16 U.S.C. 1531 et seq.), prohibits certain activities with endangered and threatened species unless authorized by a Federal permit. The ESA and our implementing regulations in part 17 of title 50 of the Code of Federal Regulations (CFR) provide for the issuance of such permits and require that we invite public comment before issuing permits for activities involving endangered species.

A recovery permit issued by us under section 10(a)(1)(A) of the ESA authorizes the permittee to conduct activities with endangered species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

We invite local, State, and Federal agencies; Tribes; and the public to comment on the following applications.

Application No. | Applicant | Species | Location | Take activity | Permit action
TE12893D-2 | Alisa Halpin, Lincoln, NE | • Interior least tern (Sternula antillarum athalassos) | NE, SD, KS, MO, IA | Pursue for presence/absence surveys, nest monitoring, habitat management | Amend.
TE232905-2 | Como Park Zoo and Conservatory, St. Paul, MN | • Wyoming toad (Bufo hemiophrys baxteri) | MN | Hold in captivity for captive breeding and rearing; collect genetic samples | Renew.
TE67251D-0 | Kelly Haun, Durango, CO | • Southwestern willow flycatcher (Empidonax traillii extimus) | CO | Pursue for presence/absence surveys | New.
TE183432-2 | Kansas City Zoo, Kansas City, MO | • Wyoming toad (Bufo hemiophrys baxteri) | MO | Hold in captivity for captive breeding and rearing; collect genetic samples | Renew.
TE13623D-1 | James Whitney, Pittsburg, KS | • Topeka shiner (Notropis topeka) • Razorback sucker (Xyrauchen texanus) • Colorado pikeminnow (Ptychocheilus lucius) | KS, CO, UT, NM | Capture, handle, measure, and release for presence/absence surveys | Amend.

Public Availability of Comments

Written comments we receive become part of the administrative record. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Next Steps

If we decide to issue permits to any of the applicants listed in this notice, we will publish a notice in the Federal Register.

Authority

We publish this notice under section 10(c) of the Endangered Species Act of 1973, as amended (16 U.S.C. 1531 et seq.).

Stephen Small,
Assistant Regional Director, U.S. Fish and Wildlife Service, Department of the Interior Unified Regions 5 and 7.

[FR Doc. 2020-06395 Filed 3-26-20; 8:45 am]

BILLING CODE 4333-15-P